DEPARTMENT OF COMMERCE

International Trade Administration

[A-485-806]

Notice of Extension of Time Limit for the Final Results of Antidumping Duty Administrative Review: Certain Hot-Rolled Carbon Steel Flat Products from Romania

AGENCY: Import Administration, International Trade Administration, Department of Commerce.

EFFECTIVE DATE: March 29, 2006.

FOR FURTHER INFORMATION CONTACT: Dunyako Ahmadu or Dave Dirstine, AD/CVD Operations, Office 5, Import Administration, International Trade Administration, U.S. Department of Commerce, 14th Street and Constitution Avenue, NW., Washington, DC 20230; telephone (202) 482-0198 and (202) 482-4033, respectively.

SUPPLEMENTARY INFORMATION:

Background

On December 8, 2005, the Department of Commerce (the Department) published the preliminary results of the 2003-2004 administrative review of the antidumping duty order covering Mittal Steel Galati S.A. (formerly S.C. Ispat Sidex S.A.). See Certain Hot-Rolled Carbon Steel Flat Products from Romania: Preliminary Results Notice of Antidumping Duty Administration Review and Notice of Intent to Rescind in Part, 70 FR 72984 (December 8, 2005).

Extension of Time Limit for Final Results

The Tariff Act of 1930, as amended (the Act), provides at section 751(a)(3)(A) that the Department will issue the final results of an administrative review of an antidumping duty order within 120 days after the date on which the preliminary results were published. The Act provides further that, if the Department determines that it is not practicable to complete the review within this time period, the Department may extend the 120-day period to 180 days.

On February 27, 2006, we requested that MS Galati provide written clarification of certain issues the parties raised in case and rebuttal briefs. MS Galati filed its response on March 8, 2006. In turn, United States Steel Corporation filed comments on March 17, 2006. As such, we require additional time to analyze and incorporate the information from these submissions into our calculations for the final results. Further, additional time is necessary to invite all interested parties to review and provide comments on our draft liquidation instructions to U.S. Customs and Border Protection.

Therefore, the Department has determined that it is not practicable to complete the final results by the current deadline of April 7, 2006. Accordingly, the Department is extending the time limit for the final results by 45 days to May 22, 2006, pursuant to section 751(a)(3)(A) of the Act and 19 CFR 351.213(h)(2).

We are issuing this notice in accordance with section 751(a)(3)(A) of the Act.

Dated: March 22, 2006.
Stephen J. Claeys,
Deputy Assistant Secretary for Import Administration.

[FR Doc. E6-4573 Filed 3-28-06; 8:45 am]

BILLING CODE 3510-DS-S